DEPARTMENT OF DEFENSE

GENERAL SERVICES ADMINISTRATION

NATIONAL AERONAUTICS AND SPACE ADMINISTRATION

[OMB Control No. 9000-0013; Docket 2014-0055; Sequence 21]

Federal Acquisition Regulation; Information Collection; Cost or Pricing Data Requirements and Information Other Than Cost or Pricing Data

AGENCIES: Department of Defense (DOD), General Services Administration (GSA), and National Aeronautics and Space Administration (NASA).

ACTION: Notice of request for public comments regarding an extension to an existing OMB information collection.

SUMMARY: Under the provisions of the Paperwork Reduction Act of 1995 (44 U.S.C. chapter 35) the Regulatory Secretariat Division will be submitting to the Office of Management and Budget (OMB) a request to review and approve an extension of a previously approved information collection requirement concerning Cost or Pricing Data Requirements and Information Other Than Cost or Pricing Data.

DATES: Submit comments on or before October 27, 2014.

ADDRESSES: Submit comments identified by Information Collection 9000-0013, Cost or Pricing Data Requirements and Information Other Than Cost or Pricing Data, by any of the following methods:

• Regulations.gov: http://www.regulations.gov. Submit comments via the Federal eRulemaking portal by searching the OMB control number 9000-0013. Select the link that corresponds with “Information Collection 9000-0013, Cost or Pricing Data Requirements and Information Other Than Cost or Pricing Data”. Follow the instructions provided on the screen. Please include your name, company name (if any), and “Information Collection 9000-0013, Cost or Pricing Data Requirements and Information Other Than Cost or Pricing Data”, on your attached document.

• Fax: 202-501-4067.

• Mail: General Services Administration, Regulatory Secretariat Division (MVCB), 1800 F Street NW., Washington, DC 20405. ATTN: Ms. Flowers/IC 9000-0013, Cost or Pricing Data Requirements and Information Other Than Cost or Pricing Data.

Instructions: Please submit comments only and cite Information Collection 9000-0013, Cost or Pricing Data Requirements and Information Other Than Cost or Pricing Data, in all correspondence related to this collection. All comments received will be posted without change to http://www.regulations.gov, including any personal and/or business confidential information provided.

FOR FURTHER INFORMATION CONTACT: Mr. Edward Chambers, Procurement Analyst, Federal Acquisition Policy Division, GSA 202-501-3221 or Edward.chambers@gsa.gov.

SUPPLEMENTARY INFORMATION:

A. Purpose

The Truth in Negotiations Act requires the Government to obtain certified cost or pricing data under certain circumstances. Contractors may request an exemption from this requirement under certain conditions and provide other information instead.

B. Annual Reporting Burden

Respondents: 32,111.

Responses per Respondent: 6.

Total Responses: 192,666.

Hours per Response: 50.51.

Total Burden Hours: 9,731,560.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755. Please cite OMB Control No. 9000-0013, Cost or Pricing Data Requirements and Information Other Than Cost or Pricing Data, in all correspondence.

Dated: August 22, 2014.
Edward Loeb,
Acting Director, Federal Acquisition Policy Division, Office of Government-Wide Acquisition Policy, Office of Acquisition Policy, Office of Government-Wide Policy.

[FR Doc. 2014-20365 Filed 8-26-14; 8:45 am]

BILLING CODE 6820-EP-P